FEDERAL COMMUNICATIONS COMMISSION

47 CFR Part 73

[DA 06-2026]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), Amendment of the Commission's Rules to permit FM Channel and Class Modifications by Applications, 8 FCC Rcd 4735 (1993) and Streamlining of Radio Technical Rules in Part 73 and 74 of the Commission's Rules, 15 FCC Rcd 21649 (2000).

DATES: Effective November 1, 2006.

FOR FURTHER INFORMATION CONTACT: Rolanda F. Smith, Media Bureau, (202) 418-2180.

SUPPLEMENTARY INFORMATION: This is a summary of the Commission's Report and Order, adopted October 11, 2006, and released October 13, 2006. The full text of this Commission decision is available for inspection and copying during regular business hours at the FCC Reference Information Center, Portals II, 445 12th Street, SW., Room CY-A257, Washington, DC, 20554. The complete text of this decision may also be purchased from the Commission's duplicating contractor, Best Copy and Printing, Inc., 445 12th Street, SW., Room CY-B402, Washington, DC, 20554, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

As stated in the preamble, the Federal Communications Commission amends 47 CFR part as follows:

PART 73—RADIO BROADCASTING SERVICES

1. The authority citation for part 73 continues to read as follows:

Authority: 47 U.S.C. 154, 303, 334, 336.

§ 73.202 [Amended]

2. Section 73.202(b), the Table of FM Allotments under California, is amended by removing Channel 289A and adding Channel 289B1 at Lost Hills.

3. Section 73.202(b), the Table of FM Allotments under Louisiana, is amended by removing Channel 262C and adding Channel 262C0 at Alexandria and by removing Channel 281C and adding Channel 281C0 at Monroe.

4. Section 73.202(b), the Table of FM Allotments under Minnesota, is amended by removing Channel 223C3 and adding Channel 223C2 at Park Rapids.

5. Section 73.202(b), the Table of FM Allotments under Montana, is amended by removing Channel 286A and adding Channel 283C1 at Billings and by removing Channel 300A and adding Channel 300C2 at Darby.

6. Section 73.202(b), the Table of FM Allotments under Nebraska, is amended by removing Channel 224A and adding Channel 224C2 at Ainsworth.

7. Section 73.202(b), the Table of FM Allotments under North Dakota, is amended by removing Channel 239C and adding Channel 239C1 at New England and by removing Channel 290C and adding Channel 290C1 at Sarles.

8. Section 73.202(b), the Table of FM Allotments under Wyoming, is amended by removing Channel 222C1 and adding Channel 221C2 at Kayce and by removing Channel 298A and adding Channel 298C2 at Wheatland.

Federal Communications Commission.
John A. Karousos,
Assistant Chief, Audio Division, Media Bureau.

[FR Doc. E6-18315 Filed 10-31-06; 8:45 am]

BILLING CODE 6712-01-P